FEDERAL RESERVE SYSTEM

Agency Information Collection Activities: Proposed Collection; Comment Request

AGENCY: Board of Governors of the Federal Reserve System

ACTION: Notice

SUMMARY: Background. On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board- approved collections of information are incorporated into the official OMB inventory of currently approved collections of information. Copies of the OMB 83-I's and supporting statements and approved collection of information instruments are placed into OMB's public docket files. The Federal Reserve may not conduct or sponsor, and the respondent is not required to respond to, an information collection that has been extended, revised, or implemented on or after October 1, 1995, unless it displays a currently valid OMB control number.

Request For Comment on Information Collection Proposals.

The following information collection, which is being handled under this delegated authority, has received initial Board approval and is hereby published for comment. At the end of the comment period, the proposed information collection, along with an analysis of comments and recommendations received, will be submitted to the Board for final approval under OMB delegated authority. Comments are invited on the following:

a. whether the proposed collection of information is necessary for the proper performance of the Federal Reserve's functions; including whether the information has practical utility;

b. the accuracy of the Federal Reserve's estimate of the burden of the proposed information collection, including the validity of the methodology and assumptions used;

c. ways to enhance the quality, utility, and clarity of the information to be collected; and

d. ways to minimize the burden of information collection on respondents, including through the use of automated collection techniques or other forms of information technology.

DATES: Comments must be submitted on or before November 15, 2002.

ADDRESSES: Comments may be mailed to Ms. Jennifer J. Johnson, Secretary, Board of Governors of the Federal Reserve System, 20th Street and Constitution Avenue, N.W., Washington, DC 20551. However, because paper mail in the Washington area and at the Board of Governors is subject to delay, please consider submitting your comments by e- mail to regs.comments@federalreserve.gov, or faxing them to the Office of the Secretary at 202-452-3819 or 202-452-3102. Comments addressed to Ms. Johnson may also be delivered to the Board's mail facility in the West Courtyard between 8:45 a.m. and 5:15 p.m., located on 21st Street between Constitution Avenue and C Street, N.W. Members of the public may inspect comments in Room MP-500 between 9:00 a.m. and 5:00 p.m. on weekdays pursuant to 261.12, except as provided in 261.14, of the Board's Rules Regarding Availability of Information, 12 CFR 261.12 and 261.14.

A copy of the comments may also be submitted to the OMB desk officer for the Board: Joseph F. Lackey, Office of Information and Regulatory Affairs, Office of Management and Budget, New Executive Office Building, Room 10235, Washington, DC 20503.

FOR FURTHER INFORMATION CONTACT: A copy of the reporting form and instructions, the Paperwork Reduction Act Submission (OMB 83-I), supporting statement, and other documents that will be placed into OMB's public docket files once approved may be requested from the agency clearance officer, whose name appears below.

Mary M. West, Federal Reserve Board Clearance Officer (202-452-3829), Division of Research and Statistics, Board of Governors of the Federal Reserve System, Washington, DC 20551. Telecommunications Device for the Deaf (TDD) users may contact Capria Mitchell (202) 872-4984, Board of Governors of the Federal Reserve System, Washington, DC 20551.

Proposal to approve under OMB delegated authority to revise the Filing Method for the following reports:

Report title: Financial Statements for Bank Holding Companies

Agency form number: FR Y-9C, FR Y-9LP, FR Y-9SP, and FR Y-9CS

OMB control number: 7100-0128

Frequency: Quarterly, semiannually

Reporters: Bank holding companies (BHCs)

Annual reporting hours: FR Y-9C: 252,675 hours, FR Y-9LP: 40,495 hours, FR Y-9SP: 28,273 hours, FR Y-9CS: 1,200 hours

Estimated average hours per response: FR Y-9C: 33.98 hours, FR Y-9LP: 4.55 hours, FR Y-9SP: 3.89 hours, FR Y-9CS: 30 minutes

Number of respondents: FR Y-9C: 1,859, FR Y-9LP: 2,225, FR Y-9SP: 3,634, FR Y- 9CS: 600

Small businesses are affected.

General description of report: This information collection is mandatory (12 U.S.C. 1844(c)). Confidential treatment is not routinely given to the data in these reports. However, confidential treatment for the reporting information, in whole or in part, can be requested in accordance with the instructions to the form.

Abstract: The FR Y-9C consists of standardized consolidated financial statements similar to the Federal Financial Institutions Examination Council (FFIEC) Consolidated Reports of Condition and Income (Call Reports) (FFIEC 031 & 041; OMB No.7100- 0036). The FR Y-9C is filed quarterly by top-tier bank holding companies that have total assets of $150 million or more and by lower-tier bank holding companies that have total consolidated assets of $1 billion or more. In addition, multibank holding companies with total consolidated assets of less than $150 million with debt outstanding to the general public or engaged in certain nonbank activities must file the FR Y-9C.

The FR Y-9LP includes standardized financial statements filed quarterly on a parent company only basis from each bank holding company that files the FR Y-9C. In addition, for tiered bank holding companies, a separate FR Y-9LP must be filed for each lower tier bank holding company.

The FR Y-9SP is a parent company only financial statement filed semiannually by one-bank holding companies with total consolidated assets of less than $150 million, and multibank holding companies with total consolidated assets of less than $150 million that meet certain other criteria. This report, an abbreviated version of the more extensive FR Y-9LP, is designed to obtain basic balance sheet and income statement information for the parent company, information on intangible assets, and information on intercompany transactions.

The FR Y-9CS is a free form supplement that may be utilized to collect any additional information deemed to be critical and needed in an expedited manner. It is intended to supplement the FR Y-9C and FR Y-9SP reports.

Current actions: The Federal Reserve proposes to require electronic submission of all FR Y-9 reports effective with the June 30, 2003, report date for FR Y-9C and FR Y-9LP filers and the December 31, 2003, report date¹for FR Y-9SP filers. The Federal Reserve would no longer accept paper copy reports from BHCs. The current submission deadline would remain 45 calendar days after the report date.

¹ The Federal Reserve is proposing to implement a new annual report (FR Y-9ES) that would be filed by ESOP banking holding companies effective December 31, 2002. If the FR Y-9ES report is approved it would be subject to the electronic submission requirement for the December 31, 2003 report date. See Federal Register notice (67 FR 49356) published July 30, 2002.

BHCs that do not currently submit their FR Y-9 reports electronically may either develop the appropriate software for electronic submission or contract with a software vendor that can provide the required software and services.² Any BHC that would like to develop its own electronic submission software would be required to contact its district Federal Reserve Bank for guidance.

² For further information on available BHC reporting preparation software, a list of some of the vendors who market this software follows: The InterCept Group, 27200 Agoura Road, Suite 100 Calabasas Hills, CA 91301, Telephone: (800) 825-3772, www.intercept.net. DBI Financial Systems, Inc., P.O. Box 90360 Santa Barbara, CA 91390-0360, Telephone: (800) 774-3279, www.e-dbi.com. Milas LLC, 2936 Graceland Way, Glendale, CA 91206, Telephone: (888) 862-7610. Financial Architects US, 80 Slocum Avenue, Bronxville, New York 10708, Telephone: (914) 376-5405, www.finarch.com. Sheshunoff Information Services, P.O. Box 13203 Capital Station, Austin, TX 78711, Telephone: (800) 456-2340, www.sheshunoff.com. S1 Corporation, 2815 Coliseum Centre Drive, Suite 300, Charlotte, NC 28217, Telephone: (704) 423-0394, frs.s1.com. STB Systems, 245 Park Avenue, 39th Floor, New York, NY 10167, Telephone: (212) 792-4136, www.stbsystems.com. This list is not an endorsement from the Federal Reserve of any of these products.

The Federal Reserve has provided BHCs the option to submit their FR Y-9 reports electronically (via FedLine in 1991 and the Internet in 2000), but has never required electronic submission. The Federal Reserve has continued to promote the use of electronic submission of the FR Y-9 series of reports and other regulatory reports. Currently, approximately 60% of the larger BHCs submit their FR Y-9C and FR Y-9LP reports electronically, while only about 20% of the smaller BHCs submit their FR Y-9SP reports electronically. However, all banks have been required to submit their FFIEC Call Reports electronically since 1997.

The Federal Reserve proposes to require electronic submission of the reports as part of an ongoing effort to provide the public with financial information for U.S. BHCs on a timelier basis. Requiring electronic submission would be the first phase in this effort. The Federal Reserve anticipates that in the future BHCs would be required to build into their electronic submission software data editing capabilities utilizing the Federal Reserve's “validity” and “quality” edits. As part of the electronic submission process, BHCs would be required to pass all validity edits and provide narrative remarks for all quality edit exceptions prior to data being accepted by the Federal Reserve. The Federal Reserve will submit these data editing requirements for public comment as a separate proposal at a later date.

A list of validity edits is located in the instructions to the FR Y-9 reports (except for the FR Y-9CS) and has been available to BHCs and software vendors for a number of years. These validity edits are principally used by the Federal Reserve to check the mathematical accuracy of financial data submitted in the FR Y-9 reports. The Federal Reserve also employs quality edits, currently not available to BHCs and software vendors, typically used to review the relationships between report line items and schedules. The Federal Reserve anticipates releasing many of the quality edits to BHCs and software vendors in the near future so that they may become familiar with the type of review performed by the Federal Reserve.

The Federal Reserve envisions that when these two requirements, mandated electronic submission and editing, are operating effectively, it could accelerate the public release of BHC financial data in a time frame that is much closer to the submission date. Currently, the Federal Reserve makes available to the public via the Internet (at the Federal Reserve Board's public web site at www.federalreserve.gov) data from the FR Y-9C and FR Y-9LP reports for the 50 largest U.S. BHCs generally within 10 days of the submission deadline. All other FR Y-9 data are typically posted to the Internet within 35 days after the submission date. These data are posted to the Internet after the financial data are reviewed and edited by the Federal Reserve.

The Federal Reserve believes that this approach will result in a more efficient financial data collection and dissemination process. This revised process should not be a significant burden to large or small bank holding companies because of advancements in, and the common use of, computer technology, and because all banks are currently required to submit their Call Reports electronically.

The Federal Reserve plans to extend the electronic submission requirement to other Federal Reserve regulatory reports in the future.

Board of Governors of the Federal Reserve System, September 10, 2002.
Jennifer J. Johnson,
Secretary of the Board.

[FR Doc. 02-23430 Filed 9-13-02; 8:45 am]

BILLING CODE 6210-01-S